DEPARTMENT OF AGRICULTURE

Food Safety and Inspection Service

[Docket No. 00-037N]

Codex Alimentarius Commission: Meeting of the Codex Ad Hoc Intergovernmental Task Force on Fruit and Vegetable Juices

AGENCY: Office of the Under Secretary for Food Safety, USDA.

ACTION: Notice of public meeting and request for comments.

SUMMARY: The Office of the Under Secretary for Food Safety, U.S. Department of Agriculture and the Food and Drug Administration's (FDA) Center for Food Safety and Applied Nutrition (CFSAN) are sponsoring a public meeting on Thursday, September 7, 2000, to provide information and receive public comments on agenda items that will be discussed at the First Session of the Codex ad hoc Intergovernmental Task Force on Fruit and Vegetable Juices, which will be held in Brasilia, Brazil, on September 18-22, 2000. The Under Secretary and CFSAN recognize the importance of providing interested parties with information about the Intergovernmental Task Force on Fruit and Vegetable Juices of the Codex Alimentarius Commission and to address items on the Agenda for the First Session of the Task Force.

DATES: The public meeting is scheduled for Thursday, September 7, 2000, from 1 pm to 4 pm.

ADDRESSES: The public meeting will be held in Room 1409 of the FDA Building, 200 “C” Street, SW., Washington, DC. 20204. To receive copies of the documents referenced in the notice contact the FSIS Docket Room, U.S. Department of Agriculture, Food Safety and Inspection Service, Room 102, Cotton Annex, 300 12th Street, SW, Washington, DC 20250-3700. The documents will also be accessible via the World Wide Web at the following address: http://www.fao.org/waicent/faoinfo /economic/esn/codex/ccfvj01/fj00 _01e.htm Submit one original and two copies of written comments to the FSIS Docket Room (address above) Docket #00-037N and the document number. All comments received in response to this notice will be considered part of the public record and will be available for viewing in the FSIS Docket Room between 8:30 a.m. and 4:30 p.m., Monday through Friday.

FOR FURTHER INFORMATION CONTACT: Patrick J. Clerkin, Associate U.S. Manager for Codex, U.S. Codex Office, Food Safety and Inspection Service, Room 4861, South Building, 1400 Independence Avenue SW, Washington, DC 20250, Telephone (202) 205-7760, FAX (202) 720-3157. Persons requiring a sign language interpreter or other special accommodations should notify Mr. Clerkin at the above number.

SUPPLEMENTARY INFORMATION:

Background

Codex was established in 1962 by two United Nations organizations, the Food and Agriculture Organization (FAO) and the World Health Organization (WHO). Codex is the major international organization for encouraging fair international trade in food and protecting the health and economic interests of consumers. Through adoption of food standards, codes of practice, and other guidelines developed by its committees, and by promoting their adoption and implementation by governments, Codex seeks to ensure that the world's food supply is sound, wholesome, free from adulteration, and correctly labeled.

The Codex ad hoc Intergovernmental Codex Task Force on Fruit and Vegetable Juices was established by the Twenty-third Session of the Codex Alimentarius Commission to revise and consolidate the existing Codex Standards and guidelines for fruit and vegetable juices and related products; and revise and up-date the methods of analysis and sampling for these products. The ad hoc Task Force is chaired by Brazil.

Issues To Be Discussed At The Public Meeting

Provisional agenda items to be discussed during the public meeting:

Consideration of Proposed Draft Codex Standards at Step 4:

(a) Proposed Draft Codex General Standard for Fruit Juices and Nectars;

(b) Proposed Draft Revised Codex Standard for Vegetable Juices; and

(c) Proposed Draft Codex Guidelines for the Labelling of Mixed Fruit Juices and Nectars.

The agenda items will be described and discussed at the public meeting and attendees will have the opportunity to pose questions and offer comments. Comments may be sent to the FSIS Docket Room (see ADDRESSES). Written comments should state that they relate to activities of the First ad hoc Task Force for Fruit and Vegetable Juices.

Additional Public Notification

Public awareness of all segments of rulemaking and policy development is important. Consequently, in an effort to better ensure that minorities, women, and persons with disabilities are aware of this notice, FSIS will announce it and provide copies of this Federal Register publication in the FSIS Constituent Update. FSIS provides a weekly FSIS Constituent Update, which is communicated via fax to over 300 organizations and individuals. In addition, the update is available on-line through the FSIS web page located at http://www.fsis.usda.gov. The update is used to provide information regarding FSIS policies, procedures, regulations, Federal Register notices, FSIS public meetings, recalls, and any other types of information that could affect or would be of interest to our constituents/stakeholders. The constituent fax list consists of industry, trade, and farm groups, consumer interest groups, allied health professionals, scientific professionals, and other individuals that have requested to be included. Through these various channels, FSIS is able to provide information to a much broader, more diverse audience. For more information and to be added to the constituent fax list, fax your request to the Congressional and Public Affairs Office, at (202) 720-5704.

Done at Washington, DC.
Patrick J. Clerkin,
Associate U.S. Manager for Codex.

[FR Doc. 00-21510 Filed 8-22-00; 8:45 am]

BILLING CODE 3410-DM-P